DEPARTMENT OF COMMERCE

National Oceanic and Atmospheric Administration

[RTID 0648-XW002]

Magnuson-Stevens Act Provisions; General Provisions for Domestic Fisheries; Application for Exempted Fishing Permits

AGENCY: National Marine Fisheries Service (NMFS), National Oceanic and Atmospheric Administration (NOAA), Commerce.

ACTION: Notice; request for comments

SUMMARY: The Regional Administrator, West Coast Region, NMFS, has made a preliminary determination that an application for an Exempted Fishing Permit warrants further consideration. The application, submitted by the West Coast Pelagic Conservation Group (a non-profit industry group), requests an exemption from the expected prohibition of directed fishing for Pacific sardine for the 2019-2020 fishing year to collect Pacific sardine as part of an industry-based scientific survey. NMFS requests public comment on the application.

DATES: Comments must be received by June 26, 2019.

ADDRESSES: You may submit comments on this document, identified by NOAA-NMFS-2019-0055, by any of the following methods:

• Electronic Submissions: Submit all electronic public comments via the Federal e-Rulemaking Portal. Go to www.regulations.gov/#!docketDetail;D=NOAA-NMFS-2019-0055, click the “Comment Now!” icon, complete the required fields, and enter or attach your comments. The EFP application will be available under Relevant Documents through the same link.

• Mail: Submit written comments to Lynn Massey, Sustainable Fisheries Division, West Coast Region, NMFS, 501 W Ocean Blvd., Ste. 4200, Long Beach, CA 90802-4250.

• Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, West Coast Region, NMFS, (562) 436-2462, lynn.massey@noaa.gov.

SUPPLEMENTARY INFORMATION: On May 28, 2019, NMFS published a proposed rule (84 FR 24459) to implement Pacific sardine harvest specifications for the 2019-2020 fishing year off the U.S. West Coast. This proposed rule included a 4,000 metric ton (mt) annual catch target (ACT) and a prohibition on directed commercial fishing for Pacific sardine off the coasts of Washington, Oregon, and California (except for small directed catch and catch of live bait). At the April 2019 Pacific Fishery Management Council (Council) meeting, the Council voted in support of the West Coast Pelagic Conservation Group's (WCPCG) EFP application and one other application that is being processed on a separate track. The WCPCG's application requests an exemption from the prohibition to directly harvest Pacific sardine. The proposed 2019-2020 Pacific sardine harvest specifications take into account the potential for up to 405 mt (the combined total of the two EFP proposals the Council reviewed) of the ACT to be harvested under EFPs.

The WCPCG EFP application requests a permit to directly harvest 10 mt of CPS, of which the applicant estimates no more than 5 mt will be Pacific sardine. The purpose of the EFP is to collect biological samples in areas inshore of the 2019 NMFS Southwest Fisheries Science Center acoustic trawl survey to better assess species composition and CPS distribution and abundance. An EFP is necessary to conduct this collection because the proposed 2019-2020 harvest specifications would prohibit most directed fishing for Pacific sardine. The collections under the EFP would take place between approximately June 25, 2019, and August 31, 2019. If NMFS does not issue this EFP, then this 5-mt portion of the ACT would be available for harvest by other permissible fishing activities.

Authority: 16 U.S.C. 1801 et seq.

Dated: June 5, 2019.
Jennifer M. Wallace,
Acting Director, Office of Sustainable Fisheries, National Marine Fisheries Service.

[FR Doc. 2019-12245 Filed 6-6-19; 4:15 pm]

BILLING CODE 3510-22-P